DEPARTMENT OF AGRICULTURE

Food and Nutrition Service

7 CFR Parts 225 and 292

[Docket No. FNS-2025-0007]

RIN 0584-AF07

Child Nutrition: Streamlining Plan Requirements for the Summer EBT Program and the Rural Non-Congregate Option in the Summer Food Service Program

AGENCY: Food and Nutrition Service (FNS), Department of Agriculture (USDA).

ACTION: Final rule.

SUMMARY: This rule removes the Coordinated Services Plan (CSP) requirement for the Summer Food Service Program (SFSP) and Summer Electronic Benefits Transfer for Children (Summer EBT) Program under the “Implementing Provisions from the Consolidated Appropriations Act, 2023: Establishing the Summer EBT Program and Rural Non-Congregate Option in the Summer Meal Programs” interim final rule published December 29, 2023.

DATES: The final rule is effective August 5, 2025.

FOR FURTHER INFORMATION CONTACT: James C. Miller, Administrator, Food and Nutrition Service, at (703) 305-2060, or James.Miller@usda.gov with a subject line of “RIN 0584-AF07”.

SUPPLEMENTARY INFORMATION:

Background

On December 29, 2023, FNS published the interim final rule Establishing the Summer EBT Program and Rural Non-Congregate Option in the Summer Meal Programs (88 FR 90230), (hereinafter referred to as “the Summer IFR”). The Summer IFR amended the SFSP and the National School Lunch Program's Seamless Summer Option (SSO) regulations to codify the flexibility for program operators to provide non-congregate meal service to children living in rural areas. These two programs are collectively referred to as the summer meal programs. The rule also established regulations and codified the Summer EBT Program in the Code of Federal Regulations.

As part of that rulemaking, FNS requires that each State which operates the SFSP and Summer EBT to develop and maintain a CSP to coordinate the statewide availability of services offered through these Programs. Beginning in 2025, states must submit a single CSP to FNS that describes how SFSP and Summer EBT services will be coordinated statewide. In instances where more than one agency administers these programs within a state, those agencies must collaborate to develop and implement the CSP. The CSP must be updated at least every three years, with significant annual updates submitted as needed. At a minimum, the plan must include: a description of the roles and responsibilities of each administering agency; a description of how agencies and organizations will coordinate outreach and programmatic activities to maximize the reach of summer meal programs and Summer EBT; metrics to assess program reach and coverage; and plans to partner with other federal, state, tribal, or local programs to support participant access to all benefits for which they may be eligible. Additionally, states must also ensure the CSP is made publicly available by posting it on their website and must notify the public of the CSP.

Comments on the Summer IFR were accepted through August 27, 2024. Eleven respondents provided general comments on the CSP requirements. An advocacy group expressed support for USDA's commitment to ensuring that all summer programs work together to end summer childhood hunger through the creation of the CSP. However, most commenters noted that the CSP is burdensome, unnecessary, and duplicative of other reporting requirements. Specifically, commenters remarked that the requirement to submit a CSP is duplicative of what States already submit in their management and administration plans. A State agency commented that Summer EBT and SFSP are not equivalent, reasoning that “the coordination of a plan” is unnecessary and burdensome. Similarly, another State agency expressed general concern about how the CSP will include both SFSP and Summer EBT. Commenters also had differing opinions on each agency's roles. One State agency recommended that FNS remove the CSP requirement altogether.

Following publication of the Summer IFR, FNS offered a waiver under the authority of section 12(l) of the Richard B. Russell National School Lunch Act (NSLA), 42 U.S.C. 1760(l), to defer the compliance date for initial CSP submissions to January 1, 2025; accordingly, 38 out of the 41 States required to comply with this provision requested and received said waiver for Program year 2025. Requesting State agencies cited a need to focus their resources on implementation and rollout activities that will best support program capacity and integrity in order to support access to nutritious meals and Summer EBT benefits. In addition to the input FNS has received through public comments and waivers, States have continued to provide similar feedback to FNS during webinars, conferences, and other engagements since publication of the Summer IFR.

FNS has carefully reviewed the public's input and SFSP and Summer EBT regulations at 7 CFR 225.3(e) and 292.10, respectively, and determined that this deregulatory action is necessary, justified, and will benefit the public. As such, FNS will remove the CSP requirement for the SFSP and Summer EBT under this final rule.

In development of this final rule, FNS considered alternatives in the SFSP and Summer EBT including retaining the provision as is, providing regulatory waivers, extending the timeline for the States to submit updates to FNS, and removing the requirement that the State agency must consult with FNS on the development of, and any significant subsequent updates to, their plan. However, FNS agrees with commenters that the CSP is burdensome, unnecessary, and duplicative of other reporting requirements, and thus has determined the provision should be removed entirely. FNS expects removal of this provision will provide immediate relief for State administering agencies by decreasing administrative burden and eliminating duplicative and unnecessary paperwork in the SFSP and Summer EBT. This action also has the potential to provide relief for any additional states that choose to implement Summer EBT in future program years. In addition, FNS expects that this action will reduce any potential burden on other organizations and program operators, from whom the State may request information to inform its plan.

Furthermore, on January 21, 2025, President Trump signed the Executive Order 14192 on Unleashing Prosperity Through Deregulation (E.O. 14192), supporting the American economy and citizens by ordering the executive branch to be prudent and financially responsible in the expenditure of funds, from both public and private sources, and to alleviate unnecessary regulatory burdens placed on the American people. This final rule is in response to, and fully consistent with, the directives of E.O. 14192. Accordingly, this final rule removes the CSP requirements at 7 CFR 225.3(e) and 292.10.

Procedural Matters

Executive Orders 12866 and 13563

Under Executive Order 12866, as amended by Executive Orders 14215 and 13563, agencies must assess all costs and benefits of available regulatory alternatives and, if regulation is necessary, select regulatory approaches that maximize net benefits. The Office of Management and Budget's (OMB) Office of Information and Regulatory Affairs has determined that this regulatory action is not significant and, therefore, is not subject to OMB review.

Regulatory Flexibility Act

Under the Regulatory Flexibility Act (5 U.S.C. 601-612) (as amended by the Small Business Regulatory Enforcement Fairness Act of 1996; 5 U.S.C. 601 et seq.), agencies must prepare and make available for public comment a regulatory flexibility analysis that describes the effect of the rule on small entities (i.e., small businesses, small organizations, and small government jurisdictions). FNS has concluded and hereby certifies that this rule will not have a significant economic impact on a substantial number of small entities.

Unfunded Mandates Reform Act

This rule does not contain Federal mandates (under the regulatory provisions of Title II of the Unfunded Mandates Reform Act (UMRA)) for State, local, and Tribal governments, or the private sector of $100 million or more in any one year. Thus, the rule is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. As this rule is purely deregulatory, FNS has assessed the impact of this rule on Indian tribes and determined that this rule would not have Tribal implications that require consultation under Executive Order 13175.

Paperwork Reduction Act

In accordance with the Paperwork Reduction Act of 1995 (44 U.S.C. 3501-3520), an agency may not conduct or sponsor, and a person is not required to respond to, a collection of information, unless the collection displays a currently valid OMB control number. This rule is deregulatory and so would not impose any additional information collection requirements; rather, it would reduce future collection requirements by removing reporting burdens. Specifically, the changes in this rule will remove the reporting requirement for State/local/Tribal governments to establish, and update annually as needed, a coordinated services plan to coordinate the statewide availability of services offered through the Summer Food Service Program described in 7 CFR part 225 and the Summer EBT program established in 7 CFR part 292. In the Summer IFR, USDA estimated that the 157 State agencies will be required to submit a coordinated services plan annually and that it takes a total of approximately 838 hours to complete this reporting requirement. USDA will revise its information collections to reflect this burden reduction.

E-Government Act Compliance

The Department is committed to complying with the E-Government Act, 2002 to promote the use of the internet and other information technologies to provide increased opportunities for citizen access to Government information and services, and for other purposes.

Executive Order 13132; Federalism Summary Impact Statement

The rule is deregulatory and has little effect on States and local governments, so FNS anticipates that this rule will not have implications for federalism. Therefore, under section 6(b) of the Executive order, a federalism summary is not required.

List of Subjects

7 CFR Part 225

Food assistance programs, Grant programs—health, Infants and children, Labeling, Reporting and recordkeeping requirements.

7 CFR Part 292

Administrative practice and procedure, Agriculture, Food assistance programs, Grant programs—education, Grant programs—health, Infants and children, Nutrition, Public assistance programs, Reporting and recordkeeping requirements, School breakfast and lunch programs.

Accordingly, 7 CFR parts 225 and 292 are amended as follows:

PART 225—SUMMER FOOD SERVICE PROGRAM

1. The authority citation for part 225 continues to read as follows:

Authority: Secs. 9, 13 and 14, Richard B. Russell National School Lunch Act, as amended (42 U.S.C. 1758, 1761 and 1762a).

§ 225.3 [Amended]

2. In § 225.3, remove paragraph (e).

PART 292—SUMMER ELECTRONIC BENEFITS TRANSFER PROGRAM

3. The authority citation for part 292 continues to read as follows:

Authority: 42 U.S.C. 1762.

§ 292.10 [Removed and Reserved]

4. Remove and reserve § 292.10.

James C. Miller,
Administrator.

[FR Doc. 2025-10342 Filed 6-5-25; 8:45 am]

BILLING CODE 3410-30-P